DEPARTMENT OF LABOR

Employment and Training Administration

Notice of Determinations Regarding Eligibility To Apply for Worker Adjustment Assistance and NAFTA Transitional Adjustment Assistance

In accordance with Section 223 of the Trade Act of 1974, as amended, the Department of Labor herein presents summaries of determinations regarding eligibility to apply for trade adjustment assistance for workers (TA-W) issued during the period of September, 2002.

In order for an affirmative determination to be made and a certification of eligibility to apply for worker adjustment assistance to be issued, each of the group eligibility requirements of Section 222 of the Act must be met.

(1) That a significant number or proportion of the workers in the workers' firm, or an appropriate subdivision thereof, have become totally or partially separated,

(2) That sales or production, or both, of the firm or sub-division have decreased absolutely, and

(3) That increases of imports of articles like or directly competitive with articles produced by the firm or appropriate subdivision have contributed importantly to the separations, or threat thereof, and to the absolute decline in sales or production.

Negative Determinations for Worker Adjustment Assistance

In each of the following cases the investigation revealed that criterion (3) has not been met. A survey of customers indicated that increased imports did not contribute importantly to worker separations at the firm.

TA-W-41,786; National Textiles, LLC, Gaffney, SC

TA-W-41,819; National Forge Co., Irvine, PA

TA-W-41,852; Cookeville Stamping, Formerly Cookeville Tool and Manufacturing, Inc., A Wholly Owned Subsidiary of American Trim, LLC, Cookeville, TN

TA-W-41,039; Carboloy, Inc., Lenoir City, TN

TA-W-41,915; Mountain High Timber, LaPine, OR

TA-W-41,926; Spartech Plastics—Conneaut, Extruding Sheet and Rollstock, Conneaut, OH

TA-W-41,898; Multicraft Technology, a Division of Morgan Auto/Consumer Group, Tylertown, MS

TA-W-41,854; ZF Industries, Inc., Tuscaloosa, AL

TA-W-41,630; Metokote Corp., Louden, TN

TA-W-41,723; Snorkel International, Omniquip Textron, Inc., Elwood, KS

TA-W-41,543; General Electric Transportation Systems, a Subsidiary of General Electric Co., Erie, PA

TA-W-41,838; Feralloy North American Steel, Melvindale, MI

TA-W-41,519; Moll Industries, Display Div., Jeffrey Lane Facility, Morristown, NJ

In the following cases, the investigation revealed that the criteria for eligibility have not been met for the reasons specified.

Increased imports did not contribute importantly to worker separations at the firm.

TA-W-41,826; Marco Marine Seattle, a Subsidiary of Marine Construction and Design Co Manufacturing Products, Div., Seattle, WA

TA-W-41,757; Curt G. Joa, Inc., Florida Div., Boyton Beach, FL

TA-W-41,421; American Dawn, Inc., Compton, CA” All workers engaged in the production of tablecloths, napkins, dishtowels, aprons, linen, rags and throw pillows for home retail sale, are denied eligibility to apply for trade adjustment assistance.

TA-W-39,147; Stainless Tank and Equipment (ST&E), Cottage Grove, WI

TA-W-41,932; Jetcraft Boats, Medford, OR

TA-W-41,837; Kurt Manufacturing Co., Minneapolis, MN

TA-W-41,387; Contract Embroidery, El Paso, TX

TA-W-41,827; Motorola, Inc., Semiconductor Products Sector, MOS^, Mesa, AZ

TA-W-41,591; Riley Gear Corp., North Tonawanda, NY

TA-W-41,652; Sagem, Inc., Greenville, SC

TA-W-41,856; Corning Cable Systems, a Subsidiary of Corning, Inc., Marshfield, MO

TA-W-41,822; Nextec Applications, Inc., Vista, CA

TA-W-41,869; Skyworks Solutions, Inc., Test and Assembly Div., Haverhill, MA

The workers firm does not produce an article as required for certification under Section 222 of the Trade Act of 1974.

TA-W-41,664; Alyesha Pipeline Service, Anchorage, AK, NC

TA-W-41,807; North American Refractories Co., a Subsidiary of RHI Refractories Holding Co., Flow Control Group, Pittsburgh, PA

TA-W-41,830; Ameriphone, Inc., a Wholly Owned Subsidiary of Plantronics, Inc., Garden Grove, CA

TA-W-41,909; Defender Services, Inc., Greensboro, NC

TA-W-41,953; Astec America, Inc., Carlsbad, CA

TA-W-41,877; Willamette Industries, Weyerhaeuser Co., Albany, OR

TA-W-41,880; Affiliated Building Services, Biscoe, NC

TA-W-42,006; Oshkosh B'Gosh, Inc., Miami Trim Warehouse, Medley, FL

TA-W-42,018; Panavision Chicago, Panavision, Inc., Chicago, IL

TA-W-41,893; J and J Forging, Inc., Monaca, PA

TA-W-41,895; Xerox Corp., Office Systems Group (OSG), Office Products Delivery Unit (OPDU), Webster, NY

TA-W-41,851; Burlington Resources, Gulf Coast Div., Houston, TX

TA-W-41,600; Columbia Sportswear Co., Portland, OR

The investigation revealed that criteria (1) has not been met. A significant number or proportion of the workers did not become totally or partially separated from employment as required for certification.

TA-W-41,806; Pa-Ted Spring Co., El Paso, TX

The investigation revealed that criteria (1) and criteria (3) have not been met. A significant number or proportion of the workers did not become totally or partially separated from employment as required for certification. Increased imports did not contribute importantly to worker separations at the firm.

TA-W-41,513; Square D Company, Schneider Electric, Oxford, OH

The investigation revealed that criteria (2) has not been met. Sales or production did not decline during the relevant period as required for certification.

TA-W-41,920; BAE Systems, Precision Aerostructures, Wellington, KS

The investigation revealed that criteria (2) and criteria (3) have not been met. Sales or production did not decline during the relevant period as required for certification. Increased imports did not contribute importantly to worker separations at the firm.

TA-W-41,508; American Meter Co., Erie, PA

Affirmative Determinations for Worker Adjustment Assistance

The following certifications have been issued; the date following the company name and location of each determination references the impact date for all workers of such determination.

TA-W-41,897; National Electrical Carbon Products, Birmingham, AL: July 8, 2001.

TA-W-41,881; Holloway Sportswear, Inc., Ville Platte, LA: July 17, 2001.

TA-W-41,870; Cummins, Inc., Universal Silencer, Montello, WI: July 2, 2001.

TA-W-41,847; Cooper Tools, a Subdivision of Cooper Industries, Inc., Cortland, NY: June 25, 2001.

TA-W-41,774; BR Holdings, Ltd, Racine Steel Castings Div., Racine, WI: June 14, 2001.

TA-W-41,610; Simmons Juvenile Products Co., Inc., New London, WI: May 16, 2001.

TA-W-40,980; Dyna-Craft Industries, Inc., Murrysville, PA: January 20, 2001

TA-W-41,421; American Dawn, Inc., Compton, CA: April 1, 2001. All workers engaged in the production of tablecloths, napkins, dishtowels, aprons, linen and rags for institutional use are eligible to apply for trade adjustment assistance.

TA-W-41,519A; Moll Industries, Brush Div., Davis Avenue Facility, Morristown, TN: December 6, 2000.

TA-W-41,845; Norma Tech, Watertown, CT: July 1, 2001.

TA-W-41,836; Mansfield Plumbing Products, Kilgore, TX: June 3, 2001.

TA-W-41,832; Alcoa Fujikura Ltd, Optical Fiber Systems, Houston, MS: April 29, 2001.

TA-W-41,734; Santiam Forest Products, Sweet Home, OR: June 21, 2001.

TA-W-41,868; VF Imagewear (West), Inc., Mt. Pleasant, TN: July 12, 2001.

TA-W-41,863; Kalkstein Silk Mills, Inc., Paterson, NJ: July 18, 2002.

TA-W-41,853; Glamorise, Willamsport, PA: June 12, 2001.

TA-W-41,871; Harvard Industries, Inc., Albion Div., Albion, MI: June 27, 2001.

TA-W-41,883; The Akron Equipment Corp., a Div. Of Akron Equipment Corp., Akron, OH: June 14, 2001.

TA-W-41,892; N F and M International, Monaca, PA: July 18, 2001.

TA-W-41,894; Coilcraft Hawarden, a Subsidiary of Coilcraft, Inc., Hawarden, IA: July 10, 2001.

TA-W-41,899; McMahon Group, LLC, d/b/a Syrtec, Liverpool, NY: July 8, 2001.

TA-W-41,904; Americal Corp., Carrollton, GA: July 8, 2001.

TA-W-41,906; Cooper Tools, a Div. of Cooper Industries, Cheraw, SC: July 9, 2001.

TA-W-41,914; Tom Harmon Logging, Sand Creek-Woods Div., San Creek, OR: July 15, 2001.

TA-W-41,957; Mahoning Mills, Inc., Kutztown, PA: July 22, 2001.

TA-W-41,922; Porterco, LLC, a Wholly Owned Subsidiary of Aladdin Industries, LLC, Magnolia, AR: July 23, 2001.

TA-W-41,919; Saint-Gobain Abrasives, Inc., Coated Abrasives Div., Wheatfield, NY: July 18, 2001.

TA-W-41,951; Lion Apparel, Inc., Williamsburg, KY: July 31, 2001.

TA-W-41,949; Don'l, Inc., Toccoa, GA: July 22, 2001.

TA-W-41,654; Harry J. Price Textiles, Inc., Lowell, NC: May 15, 2001.

TA-W-41,720; New Boston Coke Corp., New Boston, OH: June 13, 2001.

TA-W-41,717; IMI Cornelius, Inc., Anoka, MN: June 4, 2001.

TA-W-41,644; Lear Corp., Marlette Facility, Marlette, MI: May 31, 2001.

TA-W-41,594; Fulflex, Inc., Scotland Neck, NC: May 11, 2001.

TA-W-41,366; Starkey Laboratories, Glencoe, MN: April 8, 2001.

TA-W-41,087; Holophane Corp., Pataskala, OH: February 1, 2001.

TA-W-41,924 & A; MCMS, Inc., Durham, NC and San Jose, CA: December 26, 2000.

TA-W-39,994; Talbar, Inc., Meadeville, PA: August 27, 2000.

TA-W-39,575; J and L Specialty Steel, Inc., Louisville, OH: June 18, 2000.

Also, pursuant to Title V of the North American Free Trade Agreement Implementation Act (P.L. 103-182) concerning transitional adjustment assistance hereinafter called (NAFTA-TAA) and in accordance with Section 250(a), Subchaper D, Chapter 2, Title II, of the Trade Act as amended, the Department of Labor presents summaries of determinations regarding eligibility to apply for NAFTA-TAA issued during the months of September, 2002.

In order for an affirmative determination to be made and a certification of eligibility to apply for NAFTA-TAA the following group eligibility requirements of Section 250 of the Trade Act must be met:

(1) That a significant number or proportion of the workers in the workers' firm, or an appropriate subdivision thereof, (including workers in any agricultural firm or appropriate subdivision thereof) have become totally or partially separated from employment and either—

(2) That sales or production, or both, of such firm or subdivision have decreased absolutely,

(3) That imports from Mexico or Canada of articles like or directly competitive with articles produced by such firm or subdivision have increased, and that the increases imports contributed importantly to such workers' separations or threat of separation and to the decline in sales or production of such firm or subdivision; or

(4) That there has been a shift in production by such workers' firm or subdivision to Mexico or Canada of articles like or directly competitive with articles which are produced by the firm or subdivision.

Negative Determinations NAFTA-TAA

In each of the following cases the investigation revealed that criteria (3) and (4) were not met. Imports from Canada or Mexico did not contribute importantly to workers' separations. There was no shift in production from the subject firm to Canada or Mexico during the relevant period.

NAFTA-TAA-06273; Franklin Polo, Franklin, GA

NAFTA-TAA-06211; General Electric Transportation Systems, a Subsidiary of General Electric Co., Erie, PA: All workers engaged in the production of diesel electric locomotive and off-highway drive systems are denied eligibility to apply for NAFTA-TAA under Section 250 of the Trade Act of 1974.

NAFTA-TAA-6074; American Dawn, Inc., Compton, CA: All workers engaged in the production of tablecloths, napkins, dishtowels, aprons, linen, rags, and throw pillows for home retail sales, are denied eligibility to apply ofr NAFTA-TAA under Section 250 of the Trade Act of 1974.

NAFTA-TAA-06294; Curt G. Joa, Inc., Florida Div., Boyton Beach, FL

NAFTA-TAA-06336; Snorkel International, Omniquip Textron, Inc., Elwood, KS

NAFTA-TAA-06346; National Textiles, LLC, Gaffney, SC

NAFTA-TAA-06381; Mountain High Timber, LaPine, OR

NAFTA-TAA-06392; Copeland Corp., Ava, MO

NAFTA-TAA-06353; American Meter Co., Erie PA

NAFTA-TAA-06426; Mahoning Mills, Inc., Kutztown, PA

NAFTA-TAA-06444; Trinity Industries, Inc., Rail Components and Repair Div., Butler, PA

NAFTA-TAA-06297; Americal Corp., Carrollton, GA

NAFTA-TAA-06314; Newcore, Inc., Technologies Plant, Troy, MI

NAFTA-TAA-04730; Stainless Tank and Equipment (ST&E), Cottage Grove, WI

NAFTA-TAA-06455; Pella Plastics, Inc., Plant 3, New Hope, TN

NAFTA-TAA-06224; Metokote Corp., Louden, TN

NAFTA-TAA-06348; Feralloy North American Steel, Melvindale, MI

The investigation revealed that the criteria for eligibility have not been met for the reasons specified.

The investigation revealed that workers of the subject firm did not produce an article within the meaning of Section 250(a) of the Trade Act, as amended.

NAFTA-TAA-06231; APL Logistics, Socorro, TX

NAFTA-TAA-06485; Oshkosh B'Gosh, Ic., Miami Trim Warehouse, Medley, FL

NAFTA-TAA-06321; Xerox Corp., Office Systems Group (OSG), Office Products Delivery Unit (OPDU), Webster, NY

NAFTA-TAA-06385; Ameriphone, Inc., a Wholly Owned Subsidiary of Plantronics, Inc., Garden Grove, CA

NAFTA-TAA-06366; Sitel Corp., Philips Div., Longview, TX

Affirmative Determinations NAFTA-TAA

NAFTA-TAA-06211; General Electric Transportation Systems, a Subsidiary of General Electric Co., Erie, PA: May 16, 2001. All workers engaged in the production of U-tubes and gear cases who became separated from employment on or after May 16, 2001.

NAFTA-TAA; 06074; American Dawn, Inc., Compton, CA: April 1, 2001

All workers engaged in the production of tablecloths, napkins, dishtowels, aprons, linen, and rags for institutional use who became separated from employment on or after April 1, 2001.

NAFTA-TAA-06251; Kimble Glass, Cajah Mountain Plant, Lenoir, NC: May 20, 2001.

NAFTA-TAA-06301; BR Holdings, Ltd, Racine Steel Castings Div., Racine, WI: June 14, 2001.

NAFTA-TAA-06369; Holloway Sportswear, Inc., Ville Platte, LA: July 12, 2001.

NAFTA-TAA-06377; Cummins, Inc., Universal Silencer, Montello, WI: July 3, 2001.

NAFTA-TAA-06400; Komatsu America Corp., Peoria, IL: June 10, 2001.

NAFTA-TAA-06402; National Electrical Carbon Products, Birmingham, AL: July 8, 2001.

NAFTA-TAA-06435; A.O. Smith Electrical Products Co., Electrical Products Div., Scottsville, KY: July 29, 2001.

NAFTA-TAA-06437; Ohmite Manufacturing Co., CT Gamble Div., Delanco, NJ: June 26, 2001.

NAFTA-TAA-06475; Tyco Electronics, Energy Connections and Fittings Business Unit, Fuquay-Varina, NC: August 13, 2001.

NAFTA-TAA-06382; Tom Harmon Logging, Sand Creek-Woods Div., San Creek, OR: July 15, 2001.

NAFTA-TAA-06387; The Pfaltzgraff Co., Also Known as Susquehanna Pfaltzgraff, York, PA: July 15, 2001.

NAFTA-TAA-06405; Saint-Gobain Abrasives, Inc., Coated Abrasives Division, Wheatfield, NY: July 18, 2001.

NAFTA-TAA-06406; Don'l, Inc., Toccoa, GA: July 22, 2001.

NAFTA-TAA-06428; Jetcraft Boats, Medford, OR: July 29, 2001.

NAFTA-TAA-06449; IMI Cornelius, Inc., Anoka, MN: June 4, 2001.

NAFTA-TAA-06238; Siemens Engergy and Automation, Inc., Power Distribution Infrastructure and Controls Div., Bellefontaine, OH: April 25, 2001.

NAFTA-TAA-06248; Lear Corp., Marlette Facility, Marlette, MI: May 31, 2001.

NAFTA-TAA-06263; Harry J. Price Textiles, Inc., Lowell, NC: May 15, 2001.

NAFTA-TAA-06375; VF Imagewear (West), Inc., Mt. Pleasant, TN: July 12, 2001.

I hereby certify that the aforementioned determinations were issued during the months of September, 2002. Copies of these determinations are available for inspection in Room C-5311, U.S. Department of Labor, 200 Constitution Avenue, NW., Washington, DC 20210 during normal business hours or will be mailed to persons who write to the above address.

Dated: September 13, 2002.
Edward A. Tomchick,
Director, Division of Trade Adjustment Assistance.

[FR Doc. 02-24506 Filed 9-26-02; 8:45 am]

BILLING CODE 4510-30-P